DEPARTMENT OF JUSTICE

Antitrust Division

Notice Pursuant to the National Cooperative Research and Production Act of 1993—Naval Surface Technology & Innovation

Notice is hereby given that, on April 9, 2025, pursuant to section 6(a) of the National Cooperative Research and Production Act of 1993, 15 U.S.C. 4301 et seq. (“the Act”), Naval Surface Technology & Innovation (“NSTIC”) has filed written notifications simultaneously with the Attorney General and the Federal Trade Commission disclosing changes in its membership. The notifications were filed for the purpose of extending the Act's provisions limiting the recovery of antitrust plaintiffs to actual damages under specified circumstances. Specifically, Advanced Cooling Technologies, Inc., Lancaster, NJ; AForge LLC, Lorton, VA; Airtronics LLC, Tucson, AZ; Allen Control Systems, Inc., Alexandria, VA; Armada Systems, Inc., San Francisco, CA; Bath Iron Works Corp., Bath, ME; Boon Logic, Inc., Minneapolis, MN; Computer Conversions Corp, East Northport, NY; Decryptor, Inc., Richardson, TX; Dynamic Dimension Technologies LLC, Westminster, MD; Einhorn Engineering PLLC, Seattle, WA; E.O. Solutions Corp., Las Vegas, NV; Fisica Applied Technologies, Inc., San Leandro, CA; IMR, Inc., Prentice, WI; Industry Defense Systems LLC, Lansdale, PA; Integrity Defense Solutions, Inc., Newport News, VA; Johnson Controls Navy Systems LLC, York, PA; Kongsberg Defense & Aerospace Inc., Johnstown, PA; Lynntech, Inc., College Station, TX; Marvin Engineering Company Inc., Inglewood, CA; Nano Nuclear Energy, Inc., New York, NY; Quantum Imaging Inc., Colorado Springs, CO; Rapid Innovation & Security Experts, Inc., Colorado Springs, CO; Red River Technology LLC, Claremont, NH; RJA Technologies LLC, New York, NY; Skyward Federal, Colorado Springs, CO; Sparton De Leon Springs LLC, De Leon Springs, FL; Star Lab Corp, Washington, DC; Sterling Computers Corp, North Sioux City, SD; Tanner Research, Inc., Duarte, CA; The Curators of the University of Missouri, Columbia, MO; and Training Center Pros, Inc. DBA EOD Gear, Franklin, TN, have been added as parties to this venture.

Also, Geocent LLC, Metairie, LA, has withdrawn as a party to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on January 13, 2025. A notice was published in the Federal Register pursuant to section 6(b) of the Act on February 28, 2025 (90 FR 10948).

Suzanne Morris,
Deputy Director Civil Enforcement Operations, Antitrust Division.

[FR Doc. 2025-10570 Filed 6-10-25; 8:45 am]

BILLING CODE P